ENVIRONMENTAL PROTECTION AGENCY

40 CFR Part 52

[EPA-R09-OAR-2013-0190; FRL-9830-8]

Notice of Extension of Deadline to Commence Construction Under Clean Air Act Prevention of Significant Deterioration Permit Issued to Avenal Power Center, LLC

AGENCY: Environmental Protection Agency (EPA).

ACTION: Notice of final action.

SUMMARY: This notice announces that the U.S. Environmental Protection Agency (“EPA”) has extended the Prevention of Significant Deterioration (“PSD”) permit deadline for commencing construction for a final Clean Air Act PSD permit that authorizes Avenal Power Center, LLC (“APC”) to construct the Avenal Energy Project (“AEP”). The AEP is to be located in Kings County, California.

DATES: EPA's PSD permit for the AEP became effective on August 18, 2011, and included a deadline for commencing construction of February 18, 2013. Prior to February 18, 2013, APC requested an 18-month extension of the deadline for commencing construction under the PSD permit for the AEP. EPA has granted such an extension until August 18, 2014. Pursuant to section 307(b)(1) of the Clean Air Act, 42 U.S.C. 7607(b)(1), judicial review of this extension decision may be sought by filing a petition for review in the United States Court of Appeals for the Ninth Circuit by September 9, 2013.

ADDRESSES: EPA has established docket number EPA-R09-OAR-2013-0190 for this action. Generally, documents in the docket for this action are available electronically at http://www.regulations.gov and in hard copy at the following address: U.S. Environmental Protection Agency, Region IX, 75 Hawthorne Street, San Francisco, CA 94105-3901. See SUPPLEMENTARY INFORMATION for more information about how to make an appointment to view these hard copy documents during normal business hours at EPA Region IX's office.

FOR FURTHER INFORMATION CONTACT: Shirley Rivera, Air Division, U.S. Environmental Protection Agency, Region IX, 75 Hawthorne St., San Francisco, CA 94105, 415-972-3966, rivera.shirley@epa.gov.

SUPPLEMENTARY INFORMATION: The AEP, proposed by APC, is a new 600-megawatt natural gas-fired combined-cycle power plant that will be located in Kings County, California. The PSD permit decision issued by EPA for the AEP became effective on August 18, 2011 as published in the Federal Register on September 9, 2011 (76 FR 55799). In November 2011, the United States Court of Appeals for the Ninth Circuit received petitions for review of EPA's PSD permit decision for the AEP; this Court of Appeals proceeding is pending. In letters dated December 19, 2012 and February 15, 2013, APC requested that EPA provide an 18-month extension of the deadline for commencing construction in the PSD permit for the AEP. Pursuant to 40 CFR Part 52.21(r), in a response to APC dated June 26, 2013, EPA Region 9 determined that a satisfactory showing justifying the extension had been made, and EPA extended the deadline for commencing construction in the PSD permit for AEP for 18 months, so that the PSD permit will become invalid if construction of the AEP is not commenced by August 18, 2014.

The docket for this action includes, among other documents, EPA's analysis supporting this action. In addition to the electronic docket for this action, hard copy versions of the docket materials are available for public inspection during normal business hours at the following address: U.S. Environmental Protection Agency, Region IX, 75 Hawthorne St., San Francisco, CA 94105. To arrange for viewing of these documents at EPA Region IX's office, call Shirley Rivera at (415) 972-3966. Due to building security procedures, visitors should call at least 48 hours in advance to arrange a visit.

Dated: June 26, 2013.
Deborah Jordan,
Director, Air Division, Region IX.

[FR Doc. 2013-16334 Filed 7-8-13; 8:45 am]

BILLING CODE 6560-50-P